DEPARTMENT OF TRANSPORTATION

Federal Aviation Administration

14 CFR Part 73

[Docket No. FAA-2012-0561; Airspace Docket No. 12-AEA-7]

RIN 2120-AA66

Amendment of Restricted Area R-6601; Fort A.P. Hill, VA

AGENCY: Federal Aviation Administration (FAA), DOT.

ACTION: Final rule.

SUMMARY: This action expands the vertical limits and time of designation of restricted area R-6601, Fort A.P. Hill, VA. The U.S. Army requested this action to provide the additional airspace needed to conduct training in high-angle weapons systems employment.

DATES: Effective date 0901 UTC, June 27, 2013.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

History

The FAA published in the Federal Register a notice of proposed rulemaking to expand the vertical limits and increase the time of designation of restricted area R-6601, Fort A.P. Hill, VA, (77 FR 35308, June 13, 2012). Interested parties were invited to participate in this rulemaking effort by submitting written comments on the proposal. One comment was received.

Discussion of Comments

The Aircraft Owners and Pilots Association (AOPA) was concerned about the impact that expanding the restricted area's vertical limits and the time of designation would have on Instrument Flight Rules (IFR) access to VOR Federal airway V-376, which crosses through the restricted airspace. AOPA asserted that raising the restricted area ceiling from the current 5,000 feet MSL to 9,000 feet MSL would potentially force pilots to deviate from the airway and circumnavigate the area.

The FAA agrees that there could be some impact on the use of V-376, between the altitudes of 5,000 feet MSL and 9,000 feet MSL, when R-6601B and R-6601C are active. However, R-6601B and C are reserved only for high-angle weapons system training operations and the proponent is not planning to use those areas as much as R-6601A. The estimated use of R-6601B and C is 60 days per year, five hours per day. It should be noted that lowering the ceiling of R-6601A from the current 5,000 feet MSL to 4,500 feet MSL opens an additional IFR cardinal altitude at 5,000 feet MSL along V-376 when R-6601B and C are not in use. Additionally, the FAA examined IFR traffic along V-376 and found that nine aircraft per week used the airway at 6,000 feet and 17 per week at 8,000 feet. Given the limited use of R-6601B and C, and the relatively low weekly traffic count, the FAA expects that the impact to users would be minimal.

AOPA was also concerned about three hour increase in the time of designation for R-6601A, combined with the proposed reduction of the advance NOTAM requirement for activation of the airspace from the current 48 hours to 24 hours. AOPA requested that the actual time of use be reevaluated to minimize the impact on the aviation community and that the current advance NOTAM requirement times be retained or increased to give pilots more lead time to properly plan for operations around R-6601.

The current time of designation for R-6601 is “0700 to 2300.” This limits the proponent's flexibility when a need arises to extend training beyond 2300. Currently, R-6601 may be activated outside the “core hours” by NOTAM, but that NOTAM must be issued 48 hours in advance. Therefore, if, due to circumstances, training is not completed by 2300 the unit is forced to delay, reschedule or cancel the training because it is too late at that point to issue a NOTAM to extend the hours. The three hour extension of the time of designation to 0200 daily is expected to capture most training activities and this would reduce the need to reschedule training days. The proponent has agreed to retain the 48 hour advance NOTAM requirement for all three restricted areas. In addition, the proponent agreed to the addition of the term “intermittent” to the time of designation for R-6601B and C to indicate the less frequent usage of those areas. The FAA believes that the impact to general aviation would be slight between the hours of 2300 and 0200.

A Letter of Agreement will be concluded between the FAA controlling agency and the using agency governing operations of the restricted areas and stipulating that the controlling agency can recall the airspace in the event of Severe Weather Avoidance Plan (SWAP) implementation, weather diverts and emergencies.

The Rule

The FAA is amending 14 CFR part 73 to expand the vertical limits and the time of designation for restricted area R-6601, Fort A.P. Hill, VA. R-6601 currently extends from the “surface to 5,000 feet MSL,” with a time of designation of “0700 to 2300 local time daily; other times by NOTAM at least 48 hours in advance.”

The modified restricted airspace extends from the surface up to 9,000 feet MSL and consists of three subareas designated R-6601A, R-6601B and R-6601C. The new R-6601A has the same lateral boundary as the original R-6601. However, the ceiling of R-6601A is lowered by 500 feet to but not including 4,500 feet MSL instead of the current 5,000 feet MSL for the existing restricted area. R-6601B extends from 4,500 feet MSL to but not including 7,500 feet MSL; and R-6601C extends from 7,500 feet MSL to 9,000 feet MSL. Subdividing the airspace in this manner allows the option to activate only that portion of restricted airspace required for training while leaving the remaining airspace available for other users.

R-6601B and R-6601C overlie the boundaries of R-6601A, except at the northeast end where the shared R-6601B and R-6601C boundary is moved southwesterly by approximately ¾ mile from R-6601A's northeastern boundary. This provides a buffer between R-6601B and R-6601C and the centerline of VOR Federal airway V-286, which is located northeast of the restricted areas (Note: In the NPRM, V-286 was incorrectly identified as V-386).

The time of designation for R-6601A is increased by three hours daily from the current “0700 to 2300 local time daily,” to “0700 to 0200 local time daily.” The advance NOTAM requirement for activation of R-6601A at other times remains at 48 hours rather than being reduced to 24 hours as proposed in the NPRM. The time of designation for both R-6601B and R-6601C is “Intermittent by NOTAM at least 48 hours in advance.”

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies restricted area airspace to support military requirements at Fort A.P. Hill, VA.

Environmental Review

In accordance with FAA Order 1050.1E, paragraphs 402 and 404d, the FAA has conducted an independent evaluation of the United States Army's Environmental Assessment for Airspace Modification at Army Garrison Fort A.P. Hill, Bowling Green, Virginia, dated June 2012 (hereinafter the EA) regarding the modification of airspace at Fort A.P. Hill. The FAA adopted the EA and prepared a Finding of No Significant Impact/Record of Decision dated February 2013. The FAA has determined that no significant impacts would occur as a result of the Federal Action and therefore that preparation of an Environmental Impact Statement is not warranted and a Finding of No Significant Impact in accordance with 40 CFR Part 1501.4(e) is appropriate.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.66 [Amended]

2. Section 73.66 is amended as follows:

* * * * *

1. R-6601 Fort A.P. Hill, VA [Removed]

2. R-6601A Fort A.P. Hill, VA [New]

Boundaries. Beginning at lat. 38°04′37″ N., long. 77°18′44″ W.; then along U.S. Highway 301; to lat. 38°09′45″ N., long. 77°11′59″ W.; then along U.S. Highway 17; to lat. 38°07′50″ long. 77°08′29″ W.; to lat. 38°05′30″ N., long. 77°09′05″ W.; to lat. 38°04′40″ N., long. 77°10′19″ W.; to lat. 38°03′12″ N., long. 77°09′34″ W.; to lat. 38°02′22″ N., long. 77°11′39″ W.; to lat. 38°02′30″ N., long. 77°14′39″ W.; to lat. 38°01′50″ N., long. 77°16′07″ W.; to lat. 38°02′15″ N., long. 77°18′03″ W.; to lat. 38°02′40″ N., long. 77°18′59″ W.; then to the point of beginning.

Designated altitudes. Surface to but not including 4,500 feet MSL.

Time of Designation. 0700 to 0200 local time daily. Other times by NOTAM at least 48 hours in advance.

Controlling agency. FAA, Potomac TRACON.

Using agency. U.S. Army, Commander, Fort A.P. Hill, VA.

3. R-6601B Fort A.P. Hill, VA [New]

Boundaries. Beginning at lat. 38°04′37″ N., long. Long. 77°18′44″ W.; then along U.S. Highway 301 to lat. 38°09′38″ N., long. 77°12′07″ W.; to lat. 38°07′09″ N., long. 77°08′40″ W.; to lat. 38°05′30″ N., long. 77°09′05″ W.; to lat. 38°04′40″ N., long. 77°10′19″ W.; to lat. 38°03′12″ N., long. 77°09′34″ W.; to lat. 38°02′22″ N., long. 77°11′39″ W.; to lat. 38°02′30″ N., long. 77°14′39″ W.; to lat. 38°01′50″ N., long. 77°16′07″ W.; to lat. 38°02′15″ N., long. 77°18′03″ W.; to lat. 38°02′40″ N., long. 77°18′59″ W.; then to the point of beginning.

Designated altitudes. 4,500 feet MSL to but not including 7,500 feet MSL.

Time of designation. Intermittent by NOTAM at least 48 hours in advance.

Controlling agency. FAA, Potomac TRACON.

Using agency. U.S. Army, Commander, Fort A.P. Hill, VA.

4. R-6601C Fort A.P. Hill, VA [New]

Boundaries. Beginning at lat. 38°04′37″ N., long. Long. 77°18′44″ W.; then along U.S. Highway 301 to lat. 38°09′38″ N., long. 77°12′07″ W.; to lat. 38°07′09″ N., long. 77°08′40″ W.; to lat. 38°05′30″ N., long. 77°09′05″ W.; to lat. 38°04′40″ N., long. 77°10′19″ W.; to lat. 38°03′12″ N., long. 77°09′34″ W.; to lat. 38°02′22″ N., long. 77°11′39″ W.; to lat. 38°02′30″ N., long. 77°14′39″ W.; to lat. 38°01′50″ N., long. 77°16′07″ W.; to lat. 38°02′15″ N., long. 77°18′03″ W.; to lat. 38°02′40″ N., long. 77°18′59″ W.; then to the point of beginning.

Designated altitudes. 7,500 feet MSL to 9,000 feet MSL.

Time of designation. Intermittent by NOTAM at least 48 hours in advance.

Controlling agency. FAA, Potomac TRACON.

Using agency. U.S. Army, Commander, Fort A.P. Hill, VA.

* * * * *

Issued in Washington, DC, on April 4, 2013.
Gary A. Norek,
Manager, Airspace Policy and ATC Procedures Group.

[FR Doc. 2013-08582 Filed 4-11-13; 8:45 am]

BILLING CODE 4910-13-P